ENVIRONMENTAL PROTECTION AGENCY

[EPA-HQ-OPPT-2016-0597; FRL-9965-96]

40 CFR Part 711

RIN 2070-AK31

Negotiated Rulemaking Committee; Chemical Data Reporting; Requirements for Inorganic Byproduct Chemical Substances; Notice of Public Meetings

AGENCY: Environmental Protection Agency (EPA).

ACTION: Rulemaking committee meeting.

SUMMARY: EPA is giving notice that it is holding two additional meetings of the Negotiated Rulemaking Committee (Committee) established on June 5, 2017. The objective of the Committee is to negotiate a proposed rule that would limit chemical data reporting requirements under the Toxic Substances Control Act (TSCA), as amended by the Frank R. Lautenberg Chemical Safety for the 21st Century Act, for manufacturers of any inorganic byproduct chemical substances when such byproduct chemical substances are subsequently recycled, reused, or reprocessed. The purpose of the Committee is to conduct discussions in a good faith attempt to reach consensus on proposed regulatory language. This negotiation process is required by the TSCA. This notice announces the details of two upcoming meetings of the Committee, which are both open to the public, and which serve as the third and fourth meetings of the Committee.

DATES: The third Committee meeting will be held on September 13, 2017, from 9 a.m. to 5 p.m. and on September 14, 2017, from 9 a.m. to 3 p.m. The fourth Committee meeting will be held on October 25, 2017, from 9 a.m. to 5 p.m. and on October 26, 2017, from 9 a.m. to 3 p.m.

ADDRESSES: The third meeting will take place at Ronald Reagan Building and International Trade Center, Oceanic Suite, 1300 Pennsylvania Ave NW., Washington, DC 20004, while the fourth meeting will be held at William Jefferson Clinton East Building, Room 1153, 1201 Constitution Avenue NW., Washington, DC 20004.

FOR FURTHER INFORMATION CONTACT: Any member of the public wishing to obtain information concerning the public meetings may contact Jonah Richmond, Designated Federal Officer (DFO), Conflict Prevention and Resolution Center, Office of General Counsel, 1200 Pennsylvania Ave. NW., Washington, DC 20460-0001; telephone number: (202) 564-0210; email address: Richmond.jonah@epa.gov. General information about the Committee, as well as any updates concerning the meetings announced in this notice, may be found at https://www.epa.gov/chemical-data-reporting/negotiated-rulemaking-committee-chemical-data-reporting-requirements.

For information on access or services for individuals with disabilities, or to request accommodation for a disability, please contact the DFO, preferably at least ten days prior to the meetings to give EPA as much time as possible to process your request.

For technical information contact: Susan Sharkey, Chemical Control Division (7405M), Office of Pollution Prevention and Toxics, Environmental Protection Agency, 1200 Pennsylvania Ave. NW., Washington, DC 20460-0001; telephone number: (202) 564-8789; email address: Sharkey.susan@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture (including manufacture as a byproduct chemical substance and including import) chemical substances listed on the TSCA Inventory. The following list of North American Industrial Classification System (NAICS) codes are not intended to be exhaustive, but rather provides a guide to help readers determine whether this action may apply to them:

1. Chemical manufacturers and importers (NAICS codes 325 and 324110; e.g., chemical manufacturing and processing and petroleum refineries).

2. Chemical users and processors who may manufacture a byproduct chemical substance (NAICS codes 22, 322, 331, and 3344; e.g., utilities, paper manufacturing, primary metal manufacturing, and semiconductor and other electronic component manufacturing).

If you have any questions regarding the applicability of this action to a particular entity, consult the technical person listed under FOR FURTHER INFORMATION CONTACT.

B. How can i get copies of this document and other related information?

The docket for this action, identified by docket identification (ID) number EPA-HQ-OPPT-2016-0597, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

A. What action is the agency taking?

As required by the Negotiated Rulemaking Act of 1996 (NRA), EPA is giving notice that the agency is holding two additional meetings of the Negotiated Rulemaking Committee. The objective of this Committee is to develop a proposed rule providing for limiting chemical data reporting requirements, under TSCA section 8(a), for manufacturers of any inorganic byproduct chemical substances when such byproduct chemical substances are subsequently recycled, reused, or reprocessed. This negotiation process, which includes the establishment of a federal advisory committee, is required by TSCA section 8(a)(6), as amended by the Frank. R. Lautenberg Chemical Safety for the 21st Century Act (Lautenberg Act).

This Committee is a statutory advisory committee under the Federal Advisory Committee Act, 5 U.S.C. App. 2 § 9(a)(1). In accordance with Section 9(c) of the Federal Advisory Committee Act, 5 U.S.C. App. I § 9(c), EPA prepared a charter for the establishment of the Negotiated Rulemaking Committee. Copies of the Committee's charter have been filed with the appropriate congressional committees, the Library of Congress. The first two meetings of the Committee were on June 8 and 9, 2017, and August 16 and 17, 2017 (82 FR 25790) (FRL-9961-92). The Committee's charter and those meetings' agendas and materials are available in the docket supporting this activity [EPA-HQ-OPPT-2016-0597] and available online at https://www.epa.gov/chemical-data-reporting/negotiated-rulemaking-committee-chemical-data-reporting-requirements.

This notice announces the details of the third and fourth meetings of the Committee. These meetings have been scheduled for the dates indicated under DATES, and are open to the public. A notice of any Committee meeting must be published no later than 15 days before the date of that meeting. Delay in having these meetings will result in challenges in meeting the statutory deadline for the negotiated rulemaking.

III. Participation by Non-Members

A. Attending Meetings

EPA values public input during this process. The meetings announced in this notice are open to the public, so interested parties may observe the meetings and communicate their views in the appropriate time and manner, as defined in each meeting's agenda. Consistent with the requirements of FACA, formal meeting materials and summaries will be available online.

B. Oral Statements

In general, individuals or groups requesting an oral presentation at a public meeting will be limited to five minutes. Each person making an oral statement should consider providing written comments as well as their oral statement so that the points presented orally can be expanded upon in writing. Interested parties should submit requests by email to ecdrweb@epa.gov one week prior to the meeting dates, in order to be placed on the list of public speakers.

C. Written Statements

Written statements will be accepted throughout the advisory process; however, for timely consideration, statements should be supplied by email to ecdrweb@epa.gov one week prior to the meeting dates. Members of the public should be aware that written comments, including personal contact information, if included, may be posted to the Committee Web site as well as placed in the EPA docket supporting this activity. Copyrighted material will not be posted without explicit permission of the copyright holder. Additionally, EPA will invite public comment on any proposed rule resulting from the Committee's deliberations.

IV. Meeting Schedule and Agenda

A. Meeting Schedule

Committee meetings are one and a half days each, and held in Washington, DC, unless the Committee decides otherwise. If any additional meetings are required, the Committee will separately announce those meetings subsequent to the meetings being announced in this notice.

B. The Third and Fourth Committee Meetings

The third Committee meeting will be held on September 13, 2017, from 9 a.m. to 5 p.m. and on September 14, 2017, from 9 a.m. to 3 p.m. The fourth Committee meeting will be held on October 25, 2017, from 9 a.m. to 5 p.m. and on October 26, 2017, from 9 a.m. to 3 p.m. Both meetings are open to the public. Meeting details and agenda information will be available online at https://www.epa.gov/chemical-data-reporting/negotiated-rulemaking-committee-chemical-data-reporting-requirements, as well as in the EPA docket supporting this activity.

Authority: 15 U.S.C. 2601 et seq.

Dated: August 8, 2017,
Wendy Cleland-Hamnett,
Acting Assistant Administrator, Office of Chemical Safety and Pollution Prevention.

[FR Doc. 2017-17416 Filed 8-17-17; 8:45 am]

BILLING CODE 6560-50-P